ENVIRONMENTAL PROTECTION AGENCY

[OPP-2003-0015; FRL-7288-5]

Tribal Pesticide and Special Projects; Request for Proposals

AGENCY: Environmental Protection Agency (EPA).

ACTION: Notice.

SUMMARY: The Office of Pesticide Programs (OPP), in coordination with the EPA regions, is soliciting pesticide and special project proposals from eligible Tribes and intertribal consortia for fiscal year (FY) 2003 funding. Under this program, cooperative agreement awards will provide financial assistance to eligible Tribal Governments or intertribal consortia to carry out projects that assess or reduce risks to human health and the environment from pesticide exposure. The total amount of funding available for award in FY 2003 is $445,500.

DATES: Proposals, identified by docket ID number OPP-2003-0015, must be submitted on or before March 15, 2003. If the project proposal is submitted by fax or electronically by March 15, 2003, the EPA regional contact must receive an original copy of the proposal by mail within 5 working days thereafter.

ADDRESSES: Proposals may be submitted by mail, fax, or electronically. Please follow the detailed instructions as provided in Unit I.C. of the SUPPLEMENTARY INFORMATION.

FOR FURTHER INFORMATION CONTACT: Karen Rudek, Field and External Affairs Division (7506C), Office of Pesticide Programs, Environmental Protection Agency, 1200 Pennsylvania Ave., NW., Washington, DC 20460-0001; telephone number: (703) 305-6005; fax number: (703) 308-1850; e-mail address: rudek.karen@epa.gov.

SUPPLEMENTARY INFORMATION:

I. General Information

A. Does this Action Apply to Me?

Potentially affected entities include federally recognized Tribal governments or qualified intertribal consortia. For this solicitation, an intertribal consortium is defined as a partnership between two or more federally recognized Tribes that is authorized by the governing bodies of those Tribes to apply for and receive assistance under the Federal Insecticide, Fungicide, and Rodenticide Act. Only one project proposal may be submitted by each Tribal Government or intertribal consortium.

To determine whether your Tribe or your Tribal consortium may be affected by this action, you should carefully examine the applicability provisions in 40 CFR 35.501 and 35.502. If you have any questions regarding the applicability of this action to a particular entity, consult the person listed under FOR FURTHER INFORMATION CONTACT.

B. How Can I Get Copies of this Document and Other Related Information?

1. Docket. EPA has established an official public docket for this action under docket identification (ID) number OPP-2003-0015. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

C. How and to Whom Do I Submit a Project Proposal?

You may submit a project proposal through the mail, by fax, or electronically to the EPA Tribal pesticide staff in your region, as listed below. Contact the appropriate regional staff person if you need assistance or have questions regarding the creation or submission of a project proposal. To ensure proper receipt by EPA, it is imperative that you identify docket ID number OPP-2003-0015 in the subject line on the first page of your proposal.

EPA Region I (Connecticut, Maine, New Hampshire, Rhode Island, Vermont) Rob Koethe, EPA Region I, One Congress St., Suite 1100, (CPT), Boston, MA 02114-2023, telephone: (617) 918-1535, fax: (617) 918-1505, e-mail: koethe.robert@epa.gov.

EPA Region II (New Jersey, New York, Puerto Rico, Virgin Islands) Tara Masters, EPA Region II, U.S. EPA Facilities, Raritan Depot (MS50), 2890 Woodbridge Ave., Edison, NJ 08837-3679, telephone: (732) 906-6183, fax: (732) 321-6771, e-mail: masters.tara@epa.gov.

EPA Region III (Delaware, Maryland, Pennsylvania, Virginia, West Virginia, District of Columbia) Fatima El Abdaoui, EPA Region III, Chestnut Building (3AT11), Philadelphia, PA 19107, telephone: (215) 814-2129, fax: (215) 814-3114, e-mail: el-abdaoui.fatima@epa.gov.

EPA Region IV (Alabama, Florida, Georgia, Kentucky, Mississippi, North Carolina, South Carolina, Tennessee) Christopher Plymale, EPA Region IV, 61 Forsyth St., SW., Atlanta, GA 30303, telephone: (404) 562-9004, fax: (404) 562-8972, e-mail: plymale.christopher@epa.gov.

EPA Region V (Illinois, Indiana, Michigan, Minnesota, Wisconsin) Meonii Crenshaw, EPA Region V, 77 West Jackson Boulevard (DRT8J), Chicago, IL 60604-3507, telephone: (312) 353-4716, fax: (312) 353-4788, e-mail: crenshaw.meonii@epa.gov.

EPA Region VI (Arkansas, Louisiana, New Mexico, Oklahoma, Texas) Jerry Collins, EPA Region VI, 1445 Ross Avenue, Dallas, TX 75202-2733, telephone: (214) 665-7562, fax: (214) 665-7263, e-mail: collins.jerry@epa.gov.

EPA Region VII (Iowa, Kansas, Missouri, Nebraska) John Tice, EPA Region VII, 100 Centennial Mall N., Room 289, Lincoln, NE 68508, telephone: (402) 437-5080, fax: (402) 323-9079, e-mail: tice.john@epa.gov.

EPA Region VIII (Colorado, Montana, North Dakota, South Dakota, Utah, Wyoming) Donna Jackson, EPA Region VIII, 999 18th St., (8P-P3T), Denver, CO 80202-2466, telephone: (303) 312-6281, fax: (303) 312-6116, e-mail: jackson.donna@epa.gov.

EPA Region IX (Arizona, California, Hawaii, Nevada, American Samoa, Guam) Marcy Katzin, EPA Region IX, 75 Hawthorne St., (CMD-4-3), San Francisco, CA 94105, telephone: (415) 947-4215, fax: (415) 947-3583, katzin.marcy@epa.gov.

EPA Region X (Alaska, Idaho, Oregon, Washington) Theresa Pimentel, EPA Region X, 1200 Sixth Avenue, (ECO-084), Seattle, WA 98101, telephone: (206) 553-0257, fax: (206) 553-1775, e-mail: pimentel.theresa@epa.gov.

II. Background

A. What Action is the Agency Taking?

The Office of Pesticide Programs, in coordination with the EPA regions, is soliciting Tribal pesticide projects for FY 2003 funding. The total amount of funding available in FY 2003 to be awarded to Tribal Governments and/or intertribal consortia for pesticide projects is $445,500.

B. What is the Agency's Authority for Taking this Action?

Section 23(a) of the Federal Insecticide, Fungicide, and Rodenticide Act (FIFRA) authorizes EPA to enter into cooperative agreements with States and Indian Tribes to implement pesticide enforcement programs. Pursuant to the Departments of Veterans Affairs and Housing and Urban Development, and Independent Agencies Appropriations Act for FY 1999, pesticide program implementation grants under section 23(a)(1) of FIFRA are available for “pesticide program development and implementation, including enforcement and compliance activities.”

The award and administration of these grants will be governed by the Uniform Administrative Requirements for Grants and Cooperative Agreements to State and Local Governments set forth at 40 CFR part 31. Grants awarded pursuant to this solicitation are program grants subject to the regulations for “Environmental Program Grants for Tribes” set forth at 40 CFR part 35, subpart B.

III. What Should I Consider as I Prepare My Project Proposal for EPA?

1. Scope and purpose of the OPP Tribal Pesticide and Special Projects Cooperative Agreements. The purpose of these cooperative agreements is to provide financial assistance to eligible Tribal Governments or intertribal consortia to carry out projects related to human health and the environment that assess or reduce risk from pesticide exposure. Funds can be used for new activities or to further an existing eligible project or program.

2. Eligible applicants and activities—i. Who may submit a project proposal and may an applicant submit more than one? Any federally recognized Tribal Government or intertribal consortium (as defined in Unit I.A.) that is eligible to receive federal funds may submit a project proposal. Only one project proposal may be submitted by each Tribal Government or intertribal consortium.

ii. What types of projects are eligible for funding? The Agency will consider projects related to human health and the environment that assess or reduce risk from pesticide exposure. Projects may be targeted to any pesticide concern or need facing a Tribe or intertribal consortium, including:

• Water quality.

• Traditional Tribal lifeways/subsistence. Effects of pesticides on cultural activities.

• Assessment of the need for and/or development of a pesticide management policy or plan.

• Consideration of integrated pest management, reduced pesticide use, or alternatives to pesticides.

• Sampling.

• Education about the use of pesticides in Tribal museum curatorship.

• Noxious weed educational materials and/or control alternatives.

• Public outreach/education materials relating to pest management and/or the safe use, storage and disposal of pesticides.

Water quality work products may be focused on monitoring of surface water or ground water (e.g., assessing dietary exposure to pesticides via drinking water, determining those water bodies that may be impaired due to pesticides, predicting potential exposure to endangered and threatened aquatic species, or establishing a baseline of contamination from which to measure progress in the future). Water quality projects may also include information gathering and development such as a vulnerability assessment, determining the pesticides (from either on or off reservation sources) that are most likely to impact water quality, and/or providing information to pesticide users on ways they can assist in ensuring quality water sources. Finally, water quality work may also focus on the development or implementation of programs aimed at preventing contamination of water sources, mitigating contaminated water sources or implementation of best management practices.

Other projects not related to the water quality activities described above may include the establishment of a Tribal environmental, pesticide, or water quality code, a system for the proper disposal of pesticides, and/or educational outreach to the community. Sampling projects may include soil sampling, residue sampling on culturally significant/medicinal plants, or sampling to determine the effects of pesticides on cultural activities, such as subsistence hunting and fishing.

iii. How much money may be requested, and are matching funds required? Maximum funding award will not exceed $50,000 per project. Indirect cost rates will not increase the $50,000 maximum funding amount. No matching funds are required.

IV. Project Proposal Application Requirements

A. What is Required as Part of the Application Process?

In order to be considered for funding, applicants must submit the following to the regional Tribal pesticide staff contact indicated in Unit I.C. of this solicitation:

1. Project proposal (maximum 8 pages¹ of narrative), including:

¹ Additional information may be included in an appendix to the main project proposal, when it adds significant supporting detail to the main proposal.

i. Name of project.

ii. Tribal project contact (including qualifications).

iii. Project description, including:

• Purpose and goal(s) of the project.

• New or continuing project. (If this proposed project is a discrete part of a continuing effort, please provide beginning and expected ending dates for the larger effort, amount of project funding previously awarded, and project activity percent achieved to date.)

• Environmental or health issues addressed.

• Approach and methods (how the project will be carried out).

• Deliverables.

• Expected/desired outcome.

• Indicators/measures of success.

• Resources and time frame required for this project, including beginning and ending dates.

iv. Need for assistance. Provide the following information to the extent it is relevant to demonstrating the need for the specific project that is proposed:

• A list of other sources of funding you have sought for the project.

• A description of similar, identical, or otherwise relevant work that you have undertaken, including sources of funding for that work.

• A description of Tribal or other studies, surveys and other sources of information that document the environmental issues that will be addressed by the project.

v. Responsible parties and location.

• Identify persons in charge of the project and their qualifications.

• Identify major participants in the project (e.g., universities, Federal, State or local agencies) and their qualifications.

• Identify location(s) where the project will be conducted.

vi. External stakeholders.

• Identify those who will be affected by the project and how they will be affected.

• Identify those who will participate in the project and their roles.

vii. Resources.

• Identify any personnel and/or contractors to be involved in the project, including their roles and qualifications. Description should include any relevant training or experience. For example, if the project includes sampling and writing of a Sampling and Analysis Plan, describe any experience the person(s) has in writing a Sampling and Analysis Plan, in conducting soil or water sampling, etc.

• Identify existing resources/information that will be used in conducting the project.

• Identify any additional resources (including but not limited to training) that will be required for the project.

• Describe any EPA training or assistance that will be required for Tribal personnel who will be working on the project. Such training may include the development of outreach material or a sampling analysis plan, etc.

viii. Infrastructure and coordination.

• Identify coordination efforts required to successfully conduct the project, within or outside the Tribe.

• Identify ways in which this project will improve or build Tribal capacity.

• Identify any assistance you may require in coordinating with other Federal, State or local agencies.

2. Draft work plan (1-2 pages). The submitted draft work plan should outline:

i. Deliverables.

ii. The separate phases of the project.

iii. The tasks associated with each phase of the project.

iv The time frames for completion of each phase or task.

v. The name, title of the person(s) who will conduct each phase or task.

vi. The dates when progress reports will be provided to EPA, clearly showing deliverables, accomplishments, delays and/or obstacles. Project costs cannot be incurred until a final work plan has been approved by the appropriate EPA regional office.

3. Estimated budget. The estimated budget should outline costs for personnel, fringe benefits, travel, equipment, supplies, contractual, indirect cost rate, and any other costs associated with the proposed project.

4. Letter or resolution from the Tribal leadership showing support for and commitment to the project. (If it is not possible to obtain a letter/resolution from your Tribal leader to submit with your project proposal, an interim letter of explanation must be included with the proposal. An original letter/resolution from your Tribal leadership will be required prior to project award.)

5. Letter of confirmation of availability for any other funds needed to complete the project. If your proposal requires the use of additional funds for leveraging, please include a letter from the funding source confirming that these monies are available for the project. If the budget includes a Tribal in-kind contribution, a letter of confirmation is not needed.

6. Confidential business information. Applicants must clearly mark information considered confidential business information. EPA will make a final confidentiality determination for information the applicant claims as confidential business information, in accordance with Agency regulations at 40 CFR part 2, subpart B.

B. When and Where Must Project Proposals be Submitted?

The applicant may submit a project proposal to the appropriate EPA regional contact by mail, fax, or electronically. The proposal must be received by the EPA regional contact listed in Unit I.C. no later than close of business March 15, 2003. If the project proposal is submitted by fax or electronically by March 15, 2003, the EPA regional contact must receive an original copy of the proposal by mail within 5 working days thereafter. Incomplete or late proposals will be disqualified for funding consideration.

V. Process for Awarding Cooperative Agreements

A. How Will Project Proposals be Reviewed and Selected?

Tribal project proposals will be reviewed and approved for validity and completeness by each respective region and then forwarded, along with regional comments, to an EPA Headquarters, Office of Pesticide Programs review panel. The team will consult with regional staff regarding their comments as necessary. If there is money left over after the selection process is completed, the review team will discuss and determine the allocation of the money. Selections will be made by close of business April 30, 2003. EPA reserves the right to reject all applications or initial/final proposals and make no awards. All costs charged to these awards must be allowable under OMB circular A-87.

B. How will Applicants be Notified?

Regions will notify their respective applicants of the selections. Those applicants not awarded funds may request an explanation for the lack of award from EPA regional staff.

VI. Criteria for Awarding Project Cooperative Agreements

Criteria on which the project proposals will be ranked are listed below. Applicants must submit information specified in this solicitation to address the award criteria. Applicants must also provide information specified in this solicitation that will assist both a Tribe and EPA in assessing the Tribe's capacity to do the project work outlined in the project proposal. The work plan and budget should reflect the training and the work that can realistically be completed during the period of performance of the cooperative agreement.

General Background Information Request

To provide reviewers with context for your proposed project, and to assist them in gaining the clearest possible sense of the impact of this project on your Tribe and the environment, please briefly provide some information about your reservation:

1. Specify the size, geography, and general climate of the reservation.

2. How many residents are Tribal members and how many are not Tribal members?

3. How much of the reservation is under cultivation?

4. Does the reservation include wetlands or other preserves?

5. If there is relevance to your project, briefly describe the Tribal and non-Tribal populations of surrounding counties/States, and surrounding land use.

6. How many people (Tribal/non-Tribal) are employed by the Tribal Government (e.g., in government services, including health care, police and fire protection).

7. How many are employed on the reservation in other areas that use pesticides or may be impacted by their use (e.g., agriculture, animal husbandry, fisheries/fishing, forestry, construction, casinos/resorts/golf course maintenance)?

8. If you are concerned about pesticide pollution that may originate within reservation boundaries, what are the potential sources and what chemicals might be involved?

9. If you are concerned with pollution migration from off-reservation sources, what are those potential sources, and what chemicals are of specific concern?

10. Is the Tribe concerned about water quality issues? If so, please describe the nature of these concerns.

11. Does the Tribe currently have any pesticide policy in place?

Selection criteria

Total possible points: 100

Technical Qualifications, Overall Management Plan, Past Performance (30 Points)

Does the person(s) designated to lead the project have the technical expertise he or she will need to successfully complete it? Does the project leader have experience in grant and project management? Proposals should provide complete information on the education, skills, training and relevant experience of the project leader. As appropriate, please cite technical qualifications and specific examples of prior, relevant experience. If this project will develop new Tribal capacity, describe how the project leader and/or staff will gain necessary training and expertise.

To whom does the project leader report? What systems of accountability and management oversight are in place to ensure this project stays on track?

Has the Tribe or Tribal consortium received past funding from EPA's Office of Pesticide Programs, other EPA programs, or other sources? If so, please identify the funding source and activities/deliverables it supported.

If previously performed work directly impacts this project, briefly describe the connection. If a directly relevant project is currently ongoing, what progress has been made?

If this new project builds upon earlier efforts, how will you use the knowledge, data, and experience of grant outputs from previous projects to shape this new proposed activity?

Justification for Need of the Project, Soundness of Technical Approach (35 Points)

Why is this project important to the Tribe or the Tribal consortium? What environmental issues(s) will it address and how serious and/or pervasive are these issues? What is the expected outcome of the project? What benefits will this project provide to the Tribe, human health, and the environment?

Has the Tribe identified a need to coordinate or consult with other parties (Tribal and/or non-Tribal) to ensure the success of this project? If so, who are they? How does the Tribe plan to involve these parties? How will they be affected by the outcome of the project?

What are the key outputs of this project? How do you propose to quantify and measure progress? Have interim milestones for this project been established? If so, what are they? How will you evaluate the success of the project in terms of measurable environmental results? Please describe the steps you will take to ensure successful completion of the project and provide a time line and description of interim and final results and deliverables.

Does your budget request accurately reflect the work you propose? Please provide a clear correlation between expenses and project objectives. Will EPA funding for this project be supplemented with funding from other source(s)? If so, please identify them.

Benefits, Sustainability, Transferable Results (35 Points)

What ecological or human health benefits does this project provide? What quality of life issues does the project address?

Does the project have limited or broad application to address risks related to pesticides?

Will the results from this project continue to provide benefits to the Tribe or other Tribes after the period of performance has expired and this funding is no longer available? How are the benefits of this effort expected to be sustained over time?

Does the applicant understand/acknowledge the need for coordination between Tribal agencies and outside communities, and/or Federal, State or local agencies? Will the project help build Tribal infrastructure or capacity? How?

Can the project results be incorporated into existing and/or future pesticide-related Tribal environmental activities? Are any of the deliverables, experiences, products, or outcomes resulting from the project transferable to other communities? Might this project readily be implemented by another Tribe?

VII. Post Selection Activity

Selected applicants must formally apply for funds through the appropriate EPA regional office. In addition, selected applicants must negotiate a final work plan, including reporting requirements, with the designated EPA regional project officer. For more general information on post award requirements and the evaluation of grantee performance, see 40 CFR part 31.

VIII. Submission to Congress and the Comptroller General

Grant solicitations such as this are considered rules for the purpose of the Congressional Review Act (CRA). The CRA, 5 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

List of Subjects

Environmental protection, Pesticides, Tribes.

Dated: January 30, 2003.
Stephen L. Johnson,
Assistant Administrator, Office of Prevention, Pesticides and Toxic Substances.

[FR Doc. 03-3582 Filed 2-13-03; 8:45 am]

BILLING CODE 6560-50-S